DEPARTMENT OF TRANSPORTATION

Federal Aviation Administration

[Docket No. FAA-2006-25694]

Notice Concerning Airport Advisory Service at Certain Airports in the Continental United States, Excluding Alaska

AGENCY: Federal Aviation Administration (FAA).

ACTION: Request for public comment.

SUMMARY: The FAA is requesting public comment on the Airport Advisory Service provided at twenty (20) airports in the continental United States, excluding Alaska.

The Airport Advisory Service, Local or Remote, is an optional service provided by Automated Flight Service Stations for pilots of landing or departing aircraft at airports either without air traffic control towers or with part-time control towers. The Airport Advisory Service information includes weather updates, wind and altimeter information, runway usage, aeronautical data, and any known air traffic in the area.

Since Airport Advisory Service is provided full-time at many of the affected airports and part-time at others, with varying degrees of usage by the pilot community, it is important to obtain feedback from individual users and from user groups in order to ascertain the value of the service provided to the aviation community at those airports. The FAA is particularly interested in comments concerning the necessity of the service, the availability of the service, the importance of the service, and how often the service is used. Users are also welcome to include comments concerning any other aspect of your experience with Airport Advisory Service.

The request for comments includes Airport Advisory Service at the following airports: Altoona-Blair County Airport (AOO), Altoona, Pennsylvania; Anderson Regional Airport (AND), Anderson, South Carolina; Anniston Metropolitan Airport (ANB), Anniston, Alabama; Casper-Natrona County International Airport (CPR), Casper, Wyoming; Cedar City Regional Airport (CDC), Cedar City, Utah; Columbia Regional Airport (COU), Columbia, Missouri; Elkins-Randolph Airport (EKN), Elkins, West Virginia; Gainesville Regional Airport (GNV), Gainesville, Florida; Grand Forks International Airport (GFK), Grand Forks, North Dakota; Greenwood-Leflore Airport (GWO), Greenwood, Mississippi; Huron Regional Airport (HON), Huron, South Dakota; Jackson-McKellar-Sipes Regional Airport (MKL), Jackson, Tennessee; Jonesboro Municipal Airport (JBR), Jonesboro, Arkansas; Louisville-Bowman Field Airport (LOU), Louisville, Kentucky; Macon-Middle Georgia Regional Airport (MCN), Macon, Georgia; Millville Municipal Airport (MIV), Millville, New Jersey; Prescott-Ernest A. Love Field Airport (PRC), Prescott, Arizona; St. Louis-Spirit of St. Louis Airport (SUS), St. Louis, Missouri; St. Petersburg-Clearwater International Airport (PIE), St. Petersburg, Florida; Miami-Kendall-Tamiami Executive Airport (TMB), Miami, Florida.

DATES: Comments must be received by October 6, 2006.

ADDRESSES: Written comments may be submitted [identified by Docket Number FAA-2006-25694] using any of the following methods:

• DOT Docket Web site: Go to http://dms.dot.gov and follow the instructions for sending your comments electronically.

• Mail: Docket Management Facility, U.S. Department of Transportation, 400 Seventh Street, SW., Nassif Building, Room PL-401, Washington, DC 20590.

• Fax: 1-202-493-2251.

• Hand Delivery: Room PL-401 on the plaza level of the Nassif Building, 400 Seventh Street, SW., Washington, DC, between 9 a.m. and 5 p.m., Monday through Friday, except Federal holidays.

Privacy: All comments received will be posted, without change, to http://dms.dot.gov, including any personal information you provide (such as signatures on behalf of an association, business, labor union, or any other group). You may review DOT's complete Privacy Act Statement in the Federal Register published on April 11, 2000 (65 FR 19477-78) or by visiting http://dms.dot.gov.

Docket: To read the comments received, go to http://dms.dot.gov at any time or to Room PL-401 on the plaza level of the Nassif Building, 400 Seventh Street, SW., Washington, DC, between 9 a.m. and 5 p.m., Monday through Friday, except Federal holidays.

FOR FURTHER INFORMATION CONTACT: Jeanne Giering, Manager, Flight Services Operations Procedures and Safety; Mail Drop: 1575 Eye Street, NW., Room 9400; 800 Independence Avenue, SW.; Washington, DC 20591; telephone (202) 385-7627; fax (202) 385-7617; e-mail Jeanne.Giering@faa.gov.

SUPPLEMENTARY INFORMATION:

Comments Invited

The FAA invites interested persons or organizations to submit written comments or views concerning this proposal. Please reference the Docket Number at the beginning of your comments. Comments should be specific and should explain the reason for your concurrence or non-concurrence with the proposal, including supporting data.

Please send two (2) copies of your comments to one of the addresses listed in the ADDRESSES section of this document.

All comments submitted will be available for public viewing either in person or online, including any personal information you provide. Please refer to the Privacy section of this document.

Issued in Washington, DC on August 31, 2006.
John T. Staples,
Director of Flight Services Program Operations.

[FR Doc. 06-7456 Filed 9-5-06; 8:45 am]

BILLING CODE 4910-13-M